DEPARTMENT OF HEALTH AND HUMAN SERVICES

Administration for Children and Families

Proposed Information Collection Activity; Comment Request

Proposed Project

Title: Evaluation of Pregnancy Prevention Approaches—Phase 1.

OMB No.: New Collection.

Description: The Administration for Children and Families (ACF), U.S. Department of Health and Human Services (HHS), is proposing a data collection activity as part of the Evaluation of Pregnancy Prevention Approaches study. This study will assess the effectiveness of a range of programs designed to prevent or reduce sexual risk behavior and pregnancy among older adolescents. Knowing what types of programs are effective will enhance programmatic decisions by policymakers and practitioners.

The proposed activity involves the collection of information from observations of program activities and interviews with a range of experts about various aspects of existing prevention programs and topics the experts view as important to address through evaluation. These data will be used to help enhance decisions about the types of programs to be evaluated in the study.

Respondents: Researchers and policy experts, program directors, program staff, or school administrators.

Annual Burden Estimates
Instrument | Annual number of respondents | Number of responses per respondent | Average burden hours per response | Estimated annual burden hours
Discussion Guide for Use with Researchers and Policy Experts | 100 | 1 | 1 | 100
Discussion Guide for Use with Program Directors | 50 | 1 | 1 | 50
Discussion Guide for Use with Program Staff | 100 | 1 | 1 | 100
Discussion Guide for Use with School Administrators | 50 | 1 | 1 | 50
Activity Observation Guide | 50 | 1 | .75 | 38

Estimated Total Annual Burden Hours: 338

In compliance with the requirements of Section 3506(c)(2)(A) of the Paperwork Reduction Act of 1995, the Administration for Children and Families is soliciting public comment on the specific aspects of the information collection described above.

Copies of the proposed collection of information can be obtained and comments may be forwarded by writing to the Administration for Children and Families, Office of Planning, Research and Evaluation, 370 L'Enfant Promenade, SW., Washington, DC 20447, Attn: OPRE Reports Clearance Officer. E-mail address: OPREinfocollection@acf.hhs.gov. All requests should be identified by the title of the information collection.

The Department specifically requests comments on (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: June 18, 2008.
Brendan C. Kelly,
OPRE Reports Clearance Officer.

[FR Doc. E8-14221 Filed 6-24-08; 8:45 am]

BILLING CODE 4184-01-M